DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by February 26, 2026 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: WIC Farmers' Market Nutrition Program and Senior Farmers' Market Nutrition Program—Reporting and Recordkeeping Burden.

OMB Control Number: 0584-0447.

Summary of Collection: The Senior Farmers' Market Nutrition Program (SFMNP) provides eligible seniors with benefits to purchase local produce at farmers' markets, roadside stands, and community supported agriculture (CSA) programs. The Farm Security and Rural Investment Act of 2002, Public Law 107-171, initially authorized SFMNP and gave the U.S. Department of Agriculture (USDA) the authority to develop Federal regulations guiding the administration of the SFMNP.

The WIC Farmers' Market Nutrition Program (FMNP) is associated with the Special Supplemental Nutrition Program for Women, Infants, and Children (WIC). WIC provides supplemental foods, health care referrals, and nutrition education at no cost to low-income pregnant, breastfeeding, and non-breastfeeding postpartum participants, infants, and children up to 5 years of age at nutritional risk. The purpose of WIC FMNP is to provide fresh, nutritious, unprepared, locally grown fruits and vegetables through farmers' markets and roadside stands to WIC participants, and to expand awareness and use of, and sales at, farmers' markets and roadside stands. SFMNP statute (7 U.S.C. 3007) and regulations (7 CFR part 249), and WIC FMNP statute (42 U.S.C. 1786(m)(8)) and regulations (7 CFR part 248), require that certain program-related information be collected and that full and complete records concerning program operations are maintained.

The information reporting and recordkeeping requirements are necessary to ensure appropriate and efficient management of both programs. The burden activities that are covered by this Information Collection Request (ICR) include requirements that involve the authorization and monitoring of local agencies; the certification of participants; the nutrition education that is provided to participants; farmer, farmers' market, roadside stand, and CSA program (SFMNP only) authorization, training, monitoring, and management; and financial and participation data. State plans are the principal source of information about how each state agency operates WIC FMNP and SFMNP. State agencies administering both programs may submit a single consolidated state plan describing both WIC FMNP and SFMNP operations.

Need and Use of the Information: State plans are the principal source of information about how each state agency operates WIC FMNP and SFMNP. State agencies administering both programs may submit a single consolidated state plan describing both WIC FMNP and SFMNP operations to the U.S. Department of Agriculture's (USDA) Food and Nutrition Service (FNS) (7 CFR 249.4(a)). State plans are currently submitted to FNS electronically as Word or PDF documents using a web-based application called PartnerWeb

Description of Respondents: State, Local, or Tribal Government; Business or other for-profit; Not-for-profit institutions.

Number of Respondents: 2,277,011.

Frequency of Responses: Reporting: annually, one-time; quarterly, on occasion.

Total Burden Hours: 1,762,825.

Number of Respondents: 120,710.

Frequency of Responses: Reporting: Annually.

Total Burden Hours: 46,823.

Levi S. Harrell,
Departmental Information Collection Clearance Officer.

[FR Doc. 2026-01471 Filed 1-26-26; 8:45 am]

BILLING CODE 3410-30-P